DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by American Museum of Natural History professional staff in consultation with representatives of the St. Regis Band of Mohawk Indians of New York.

Prior to 1924, Professor Felix Von Luschan acquired human remains representing a minimum of three individuals from an unknown locale. The American Museum of Natural History has no information on the circumstances of Professor Von Luschan's acquisition of these remains. Mr. Felix Warburg purchased these remains from Professor Von Luschan and, in 1924, donated them to the American Museum of Natural History. No known individuals were identified. No associated funerary objects are present.

These individuals have been identified as Native American based on American Museum of Natural History documentation that refers to the remains as “Mohawk.”

Based on the above-mentioned information, officials of the American Museum of Natural History have determined that, pursuant to 43 CFR 10.2(d)(1), the human remains listed above represent the physical remains of a minimum of three individuals of Native American ancestry. Also, officials of the American Museum of Natural History have determined that, pursuant to 43 CFR 10.2(e), there is a relationship of shared group identity that can be reasonably traced between these Native American human remains and the St. Regis Band of Mohawk Indians of New York.

This notice has been sent to officials of the St. Regis Band of Mohawk Indians of New York. Representatives of any other Indian tribe that believes itself to be culturally affiliated with these human remains should contact Martha Graham, Director of Cultural Resources, American Museum of Natural History, Central Park West at 79th Street, New York, NY 10024-5192, telephone (212) 769-5846, before May 21, 2001. Repatriation of the human remains to the St. Regis Band of Mohawk Indians of New York may begin after that date if no additional claimants come forward.

Dated: March 30, 2001.
John Robbins,
Assistant Director, Cultural Resources Stewardship and Partnerships.

[FR Doc. 01-9763 Filed 4-19-01; 8:45 am]

BILLING CODE 4310-70-F